DEPARTMENT OF ENERGY

Federal Energy Regulatory Commission

Combined Notice of Filings #1

Take notice that the Commission received the following electric corporate filings:

Docket Numbers: EC21-68-000.

Applicants: Oleander Power Project, LP.

Description: Response to May 4, 2021 Deficiency Letter of Oleander Power Project, Limited Partnership Power Holding LLC.

Filed Date: 5/14/21.

Accession Number: 20210514-5212.

Comments Due: 5 p.m. ET 5/28/21.

Docket Numbers: EC21-94-000.

Applicants: Constellation Holdings, LLC, Albany Green Energy, LLC.

Description: Application for Authorization Under Section 203 of the Federal Power Act, et al. of Constellation Holdings, LLC, et al.

Filed Date: 5/14/21.

Accession Number: 20210514-5215.

Comments Due: 5 p.m. ET 6/4/21.

Take notice that the Commission received the following exempt wholesale generator filings:

Docket Numbers: EG21-147-000.

Applicants: Black Rock Wind Force, LLC.

Description: Notice of Self-Certification of Exempt Wholesale Generator Status, LLC of Black Rock Wind Force, LLC.

Filed Date: 5/17/21.

Accession Number: 20210517-5077.

Comments Due: 5 p.m. ET 6/7/21.

Take notice that the Commission received the following electric rate filings:

Docket Numbers: ER13-738-008; ER10-1186-011; ER10-1329-011; ER11-2731-004; ER11-3097-012; ER12-421-004.

Applicants: DTE Electric Company, DTE Energy Trading, Inc., DTE Energy Supply, LLC, DTE Garden Wind Farm, LLC, DTE Stoney Corners Wind Farm, LLC, St. Paul Cogeneration, LLC.

Description: Notice of Non-Material Change in Status of DTE MBR Entities.

Filed Date: 5/14/21.

Accession Number: 20210514-5205.

Comments Due: 5 p.m. ET 6/4/21.

Docket Numbers: ER16-2320-007.

Applicants: Pacific Gas and Electric Company.

Description: Compliance filing: TO18 Order on Rehearing Compliance Filing to be effective N/A.

Filed Date: 5/17/21.

Accession Number: 20210517-5091.

Comments Due: 5 p.m. ET 6/7/21.

Docket Numbers: ER19-2585-003.

Applicants: Florida Power & Light Company.

Description: Compliance filing: Compliance Filing Revising Tariff Records to Reflect Approved Settlement to be effective 4/1/2020.

Filed Date: 5/17/21.

Accession Number: 20210517-5125.

Comments Due: 5 p.m. ET 6/7/21.

Docket Numbers: ER20-1831-001.

Applicants: UGI Utilities, Inc., PJM Interconnection, L.L.C.

Description: Compliance filing: UGI Utilities, Inc. submits Compliance Filing in ER20-1831 re: Order 864 to be effective 1/27/2020.

Filed Date: 5/17/21.

Accession Number: 20210517-5145.

Comments Due: 5 p.m. ET 6/7/21.

Docket Numbers: ER21-1670-001.

Applicants: Midcontinent Independent System Operator, Inc.

Description: Tariff Amendment: 2021-05-17_SA 3424 ATC-Wisconsin Electric Power Substitute 1st Rev GIA (J871) to be effective 3/30/2021.

Filed Date: 5/17/21.

Accession Number: 20210517-5135.

Comments Due: 5 p.m. ET 6/7/21.

Docket Numbers: ER21-1905-001.

Applicants: NextEra Energy Transmission MidAtlantic Indiana, Inc., PJM Interconnection, L.L.C.

Description: Tariff Amendment: NEET MidAtlantic IN submits Errata to IA, SA No. 5801 with NIPSCO to be effective 4/2/2021.

Filed Date: 5/14/21.

Accession Number: 20210514-5192.

Comments Due: 5 p.m. ET 6/4/21.

Docket Numbers: ER21-1918-000.

Applicants: Algonquin Energy Services Inc.

Description: § 205(d) Rate Filing: Revisions to AES Market-Based Rate Tariff to be effective 6/30/2021.

Filed Date: 5/14/21.

Accession Number: 20210514-5217.

Comments Due: 5 p.m. ET 6/4/21.

Docket Numbers: ER21-1919-000.

Applicants: PJM Interconnection, L.L.C.

Description: § 205(d) Rate Filing: Enhancements to PJM Dispatch and Pricing ? The Long-Term Reforms to be effective 11/1/2021.

Filed Date: 5/17/21.

Accession Number: 20210517-5042.

Comments Due: 5 p.m. ET 6/7/21.

Docket Numbers: ER21-1920-000.

Applicants: ALLETE, Inc.

Description: § 205(d) Rate Filing: Certificate of Concurrence (Original TCRA) to be effective 9/1/2015.

Filed Date: 5/17/21.

Accession Number: 20210517-5052.

Comments Due: 5 p.m. ET 6/7/21.

Docket Numbers: ER21-1921-000.

Applicants: Citadel Energy Marketing LLC.

Description: Baseline eTariff Filing: Baseline new to be effective 5/18/2021.

Filed Date: 5/17/21.

Accession Number: 20210517-5056.

Comments Due: 5 p.m. ET 6/7/21.

Docket Numbers: ER21-1922-000.

Applicants: Midcontinent Independent System Operator, Inc., Ameren Illinois Company.

Description: § 205(d) Rate Filing: 2021-05-17_SA 3028 Ameren IL-Prairie Power Project #20 Taylorville to be effective 7/17/2021.

Filed Date: 5/17/21.

Accession Number: 20210517-5064.

Comments Due: 5 p.m. ET 6/7/21.

Docket Numbers: ER21-1923-000.

Applicants: Black Rock Wind Force, LLC.

Description: Baseline eTariff Filing: Application for Market-Based Rate Authorization and Request for Waivers to be effective 7/17/2021.

Filed Date: 5/17/21.

Accession Number: 20210517-5068.

Comments Due: 5 p.m. ET 6/7/21.

Docket Numbers: ER21-1924-000.

Applicants: ALLETE, Inc.

Description: § 205(d) Rate Filing: Certificate of Concurrence (Amended TCRA) to be effective 2/16/2021.

Filed Date: 5/17/21.

Accession Number: 20210517-5070.

Comments Due: 5 p.m. ET 6/7/21.

Docket Numbers: ER21-1925-000.

Applicants: Southern California Edison Company.

Description: § 205(d) Rate Filing: Amended LGIA Kramer Junction 8 Project TOT697QFC SA No. 247 to be effective 7/17/2021.

Filed Date: 5/17/21.

Accession Number: 20210517-5087.

Comments Due: 5 p.m. ET 6/7/21.

Docket Numbers: ER21-1926-000.

Applicants: Louisville Gas and Electric Company.

Description: § 205(d) Rate Filing: LGE and KU_Rhudes Creek Provisional Large Generator Interconnection Agreement to be effective 5/7/2021.

Filed Date: 5/17/21.

Accession Number: 20210517-5115.

Comments Due: 5 p.m. ET 6/7/21.

Docket Numbers: ER21-1927-000.

Applicants: American Electric Power Service Corporation, Ohio Power Company, PJM Interconnection, L.L.C.

Description: § 205(d) Rate Filing: AEP submits the Buckhorn FA re: ILDSA SA No. 1336 to be effective 7/17/2021.

Filed Date: 5/17/21.

Accession Number: 20210517-5123.

Comments Due: 5 p.m. ET 6/7/21.

Docket Numbers: ER21-1928-000.

Applicants: Diamond Energy East, LLC.

Description: § 205(d) Rate Filing: Notice of Succession and Revised Market-Based Rate Tariffs to be effective 5/18/2021.

Filed Date: 5/17/21.

Accession Number: 20210517-5126.

Comments Due: 5 p.m. ET 6/7/21.

Docket Numbers: ER21-1929-000.

Applicants: Diamond Energy NE, LLC.

Description: § 205(d) Rate Filing: Notice of Succession and Revised Market-Based Rate Tariffs to be effective 5/18/2021.

Filed Date: 5/17/21.

Accession Number: 20210517-5129.

Comments Due: 5 p.m. ET 6/7/21.

Docket Numbers: ER21-1930-000.

Applicants: Diamond Energy NY, LLC.

Description: § 205(d) Rate Filing: Notice of Succession and Revised Market-Based Rate Tariffs to be effective 5/18/2021.

Filed Date: 5/17/21.

Accession Number: 20210517-5134.

Comments Due: 5 p.m. ET 6/7/21.

Docket Numbers: ER21-1931-000.

Applicants: UGI Utilities Inc., PJM Interconnection, L.L.C.

Description: Compliance filing: UGI Utilities, Inc. Submits Single-Issue Audit Compliance Filing to be effective 7/19/2021.

Filed Date: 5/17/21.

Accession Number: 20210517-5153.

Comments Due: 5 p.m. ET 6/7/21.

Docket Numbers: ER21-1932-000.

Applicants: PJM Interconnection, L.L.C.

Description: § 205(d) Rate Filing: Amendment to ISA, SA No. 5473; Queue No. AC1-054 to be effective 8/27/2019.

Filed Date: 5/17/21.

Accession Number: 20210517-5155.

Comments Due: 5 p.m. ET 6/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 17, 2021.
Debbie-Anne A. Reese,
Deputy Secretary.

[FR Doc. 2021-10849 Filed 5-21-21; 8:45 am]

BILLING CODE 6717-01-P